DEPARTMENT OF ENERGY

Federal Energy Regulatory Commission

Combined Notice of Filings #1

Take notice that the Commission received the following electric corporate filings:

Docket Numbers: EC18-28-000.

Applicants: American Transmission Company LLC, Wisconsin Power and Light Company.

Description: Application for Authority to Acquire Transmission Facilities under Section 203 of the FPA of American Transmission Company LLC, et al.

Filed Date: 12/6/17.

Accession Number: 20171206-5135.

Comments Due: 5 p.m. ET 12/27/17.

Docket Numbers: EC18-29-000.

Applicants: Big Savage, LLC, Big Sky Wind, LLC, EverPower Commercial Services LLC, Highland North LLC, Howard Wind LLC, Krayn Wind LLC, Mustang Hills, LLC, Patton Wind Farm, LLC.

Description: Application Under FPA Section 203 of Big Savage, LLC et al.

Filed Date: 12/6/17.

Accession Number: 20171206-5143.

Comments Due: 5 p.m. ET 12/27/17.

Take notice that the Commission received the following electric rate filings:

Docket Numbers: ER12-524-001.

Applicants: Longview Power, LLC.

Description: Compliance filing: Informational Filing Regarding Upstream Change in Control and Request for Waiver to be effective N/A.

Filed Date: 12/6/17.

Accession Number: 20171206-5094.

Comments Due: 5 p.m. ET 12/27/17.

Docket Numbers: ER17-1916-001.

Applicants: Southern Maryland Electric Cooperative, PJM Interconnection, L.L.C.

Description: Compliance filing: SMECO submits compliance filing to replace the placeholder effective date to be effective N/A.

Filed Date: 12/7/17.

Accession Number: 20171207-5068.

Comments Due: 5 p.m. ET 12/28/17.

Docket Numbers: ER17-2291-001.

Applicants: PJM Interconnection, L.L.C.

Description: Tariff Amendment: PJM submits Response to Deficiency Letter re Pseudo-Tie PJM Tarrif Revisions to be effective 11/9/2017.

Filed Date: 12/7/17.

Accession Number: 20171207-5082.

Comments Due: 5 p.m. ET 12/28/17.

Docket Numbers: ER18-390-000.

Applicants: AES Ohio Generation, LLC.

Description: Compliance filing: AES Reactive Power Compliance Filing [EC17-117-000] to be effective 12/31/9998.

Filed Date: 12/5/17.

Accession Number: 20171205-5120.

Comments Due: 5 p.m. ET 12/19/17.

Docket Numbers: ER18-400-000.

Applicants: Tucson Electric Power Company.

Description: § 205(d) Rate Filing: Engineering and Design Agreement, Rate Schedule No. 338 to be effective 12/8/2017.

Filed Date: 12/7/17.

Accession Number: 20171207-5054.

Comments Due: 5 p.m. ET 12/28/17.

Docket Numbers: ER18-401-000.

Applicants: Southwestern Public Service Company.

Description: § 205(d) Rate Filing: SPS-RBEC-GSEC-IA-TXNW-699-0.0.0 to be effective 12/8/2017.

Filed Date: 12/7/17.

Accession Number: 20171207-5061.

Comments Due: 5 p.m. ET 12/28/17.

Docket Numbers: ER18-402-000.

Applicants: Virginia Electric and Power Company, PJM Interconnection, L.L.C.

Description: § 205(d) Rate Filing: VEPCO submits WDSAs, Service Agreement Nos. 4852, 4853, 4854, and 4855 to be effective 11/11/2017.

Filed Date: 12/7/17.

Accession Number: 20171207-5066.

Comments Due: 5 p.m. ET 12/28/17.

Docket Numbers: ER18-403-000.

Applicants: Westar Energy, Inc.

Description: Tariff Cancellation: Notice of Cancellation of certain designated Rate Schedules to be effective 6/1/2015.

Filed Date: 12/7/17.

Accession Number: 20171207-5080.

Comments Due: 5 p.m. ET 12/28/17.

Docket Numbers: ER18-404-000.

Applicants: Baltimore Gas and Electric Company, PJM Interconnection, L.L.C.

Description: § 205(d) Rate Filing: BGE submits revisions to Attachment H-2A re: Abandoned Plant and Land Costs to be effective 2/5/2018.

Filed Date: 12/7/17.

Accession Number: 20171207-5083.

Comments Due: 5 p.m. ET 12/28/17.

Docket Numbers: ER18-405-000.

Applicants: Carson Cogeneration Company LP.

Description: Tariff Cancellation: Cancellation of Market Based Rate Tariff to be effective 12/8/2017.

Filed Date: 12/7/17.

Accession Number: 20171207-5088.

Comments Due: 5 p.m. ET 12/28/17.

Docket Numbers: ER18-406-000.

Applicants: Brunner Island, LLC.

Description: § 205(d) Rate Filing: Revised Reactive Service Rate Schedule and Request for Waiver to be effective 12/31/9998.

Filed Date: 12/7/17.

Accession Number: 20171207-5094.

Comments Due: 5 p.m. ET 12/28/17.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 7, 2017.
Kimberly D. Bose,
Secretary.

[FR Doc. 2017-26925 Filed 12-13-17; 8:45 am]

BILLING CODE 6717-01-P